DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by March 20, 2023 will be considered. Written comments and recommendations for the proposed information collection should be submitted within 30 days of the publication of this notice on the following website www.reginfo.gov/public/do/PRAMain. Find this information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Understanding the Relationship Between Poverty, Well-Being, and Food Security.

OMB Control Number: 0584-NEW.

Summary of Collection: The Supplemental Nutrition Assistance Program (SNAP) is the nation's largest federal program aimed at reducing food insecurity and increasing access to healthy food. SNAP is administered by the U.S. Department of Agriculture's (USDA), Food and Nutrition Service (FNS) and provides nutrition assistance benefits to program participants, the majority of whom are children, the elderly, or people with disabilities. Through this data collection effort, FNS seeks to understand the interrelated factors that lead to household food insecurity. Data will be collected in six counties experiencing persistent intergenerational poverty through a study titled Understanding the Relationship Between Poverty, Well-Being, and Food Security. The Food and Nutrition Act of 2008, as amended through Public Law 116-94, enacted December 20, 2019, provides the legislative authority for the USDA's FNS to administer SNAP. Section 17 of the Food and Nutrition Act of 2008 provides the authority to FNS to conduct research to help improve the administration and effectiveness of SNAP.

Need and Use of the Information: Understanding the Relationship Between Poverty, Well-Being, and Food Security will allow FNS to gain a deeper understanding of the interrelated factors that affect the food security status of SNAP beneficiaries and SNAP-eligible nonparticipants, information which has not previously collected in persistently poor counties. The USDA's Economic Research Service (ERS) defines counties as being persistently poor if 20 percent or more of county residents were poor at each of several points in time over a 30-year period, measured by the 1980, 1990, and 2000 censuses and the 2007-2011 American Community Survey. Examining food insecurity and poverty in these populations will help FNS better understand the association between SNAP, other USDA-administered programs, and community-based assistance with well-being and the food environment. Study objectives include:

Objective 1: Produce descriptive statistics on key sociodemographic and economic variables, including household food security in a representative sample of all residents in each of six persistent-poverty counties.

Objective 2: Produce descriptive statistics on key sociodemographic and economic variables, including household food insecurity in two representative stratified subsamples of low and very low food-secure residents, in each county of six persistent-poverty counties.

Objective 3: Produce descriptive statistics for each subgroup in each county on key social, geospatial, and other policy-actionable elements of well-being and material deprivation associated with both household food security and SNAP participation.

Objective 4: Characterize the social context and the life course of individuals, within a multigenerational family unit, as they define their experiences with food insecurity through In-Depth Interviews (IDIs).

Description of Respondents: State and Local Government, Individuals and Households, Businesses or other For- Profit and Not-for-Profit.

Number of Respondents: 20,349.

Frequency of Responses: Reporting: On Occasion.

Total Burden Hours: 7,792.

Food and Nutrition Service

Title: Servicing SNAP Applicants and Participants with Limited English Proficiency (LEP).

OMB Control Number: 0584-NEW.

Summary of Collection: The Supplemental Nutrition Assistance Program (SNAP) provides a monthly benefit to eligible households to spend on food so that households and individuals with low incomes have access to enough nutritious food to lead healthy, active lives. The U.S. Department of Agriculture's (USDA) Food and Nutrition Service (FNS) administers SNAP in partnership with 53 State agencies (the 50 States, the District of Columbia [DC], Guam, and the U.S. Virgin Islands [USVI]). In three U.S. Territories—American Samoa, the Commonwealth of the Northern Mariana Islands (CNMI), and Puerto Rico—nutrition assistance to low-income individuals and households is provided through the Nutrition Assistance Program (NAP).

As Federally assisted programs, both SNAP and NAP are required to comply with Title VI of the Civil Rights Act of 1964 (Title VI) and its implementing regulations for the USDA at 7 CFR 15. (U.S. Department of Justice Civil Rights Division n.d.). Title VI prohibits entities that receive Federal financial assistance from discriminating against or otherwise excluding individuals on the basis of race, color, or national origin. In order to avoid discrimination against LEP persons on the ground of national origin, administrators of Federal financial assistance programs must take reasonable steps to ensure that LEP persons receive the language assistance necessary to afford them meaningful access to SNAP or NAP as applicable, free of charge. LEP individuals are defined as those who do not speak English as their primary language and have a limited ability to read, speak, write, or understand English (USDA 2014, p. 70775). Meaningful access requires that State agencies provide language assistance services that allow equal participation in and access to the benefits of a given program. To support meaningful access, language assistance must be provided at a time and place that avoids the effective denial of the service, benefit, or right at issue or the imposition of an undue burden on or delay in important rights, benefits, or services to the LEP person (USDA 2014, p. 70779-70780).

Need and Use of the Information: As the agency responsible for providing oversight and monitoring for both SNAP and NAP, it is critical that FNS understands whether and how SNAP and NAP agencies are complying with LEP requirements. The LEP study will provide FNS with actionable insights about how States and Territories operate language access policies and requirements. The study will gather detailed data from all 53 State SNAP agencies via a web-based survey, the three Territories that operate NAP via in-depth interviews, and will conduct case studies in four States. The study will provide FNS with a comprehensive summary of findings on policies and practices related to LEP access. It will increase FNS' understanding of SNAP LEP access policies and practices across the nation, including how States make decisions about these policies and practices, how they train staff on them, and their perceptions of Federal regulations. The findings from the study will help inform policymakers efforts to provide more meaningful access to SNAP and NAP.

Description of Respondents: State, Local, and Tribal Governments.

Number of Respondents: 100.

Frequency of Responses: Reporting: On Occasion.

Total Burden Hours: 238.

Food and Nutrition Service

Title: Rapid Cycle Evaluation of Operational Improvements in Supplemental Nutrition Assistance Program (SNAP) Employment & Training (E&T) Programs.

OMB Control Number: 0584-NEW.

Summary of Collection: Section 17 of the Food and Nutrition Act of 2008, as amended in March 2022, authorizes the Secretary of Agriculture to contract with private organizations and conduct research to improve the administration and effectiveness of SNAP. In addition to providing nutrition assistance benefits to millions of low-income individuals experiencing economic hardship, the Supplemental Nutrition Assistance Program (SNAP) provides work supports through Employment and Training (E&T) programs that help SNAP participants gain skills and find work. State agencies are required to operate an E&T program and have considerable flexibility to determine the services they offer and populations they serve. The U.S. Department of Agriculture's Food and Nutrition Service (FNS) seeks to ensure the quality of the services and activities offered through SNAP E&T programs by investing resources and providing technical assistance to help States build capacity, create more robust services, and increase engagement in their programs.

Need and Use of the Information: The Rapid Cycle Evaluation of Operational Improvements in SNAP E&T Programs (SNAP E&T RCE) evaluation will use rapid cycle evaluation (RCE) to test small-scale interventions in SNAP E&T operations or service delivery to determine their effectiveness in improving program engagement and service take-up. RCE is an approach that involves cycles of identifying, testing, and refining small scale, low-cost operational interventions to determine their effectiveness.

Description of Respondents: State and Local Government, Individuals and Households, Businesses or other For- Profit and Not-for-Profit.

Number of Respondents: 61,783.

Frequency of Responses: Reporting: On Occasion.

Total Burden Hours: 16,216.

Food and Nutrition Service

Title: Supplemental Nutrition Assistance Program: Trafficking Controls and Investigations (Card Replacement Revision).

OMB Control Number: 0584-0587.

Summary of Collection: The Food and Nutrition Service (FNS) requires States agencies to issue a warning notice to withhold replacement electronic benefit transfer (EBT) cards or a warning notice for excessive EBT card replacements for individual members of a Supplemental Nutrition Assistance Program (SNAP) household requesting four EBT cards in a 12-month period. These notices are being issued to educate SNAP recipients on use of the EBT card and to deter fraudulent activity.

Need and Use of the Information: The data collected will be used for a variety of purposes, mainly statutory and regulatory compliance. The data is gathered at various times, ranging from monthly, quarterly, annual or final submissions. Without the information, FNS would be unable to ensure integrity or effectively monitor any over-issued, under-issued, or trafficking.

Description of Respondents: 372,285 Individuals/Households and 53 State, Local or Tribal Government.

Number of Respondents: 372,338.

Frequency of Responses: Reporting: Quarterly, Semi-annually, Monthly; Annually.

Total Burden Hours: 35,863.

Ruth Brown,
Departmental Information Collection Clearance Officer.

[FR Doc. 2023-03273 Filed 2-15-23; 8:45 am]

BILLING CODE 3410-30-P